ENVIRONMENTAL PROTECTION AGENCY

40 CFR Part 52

[EPA-R05-OAR-2018-0839; FRL-10004-92-Region 5]

Air Plan Approval; Minnesota; Revision to the Minnesota State Implementation Plan

AGENCY: Environmental Protection Agency (EPA).

ACTION: Proposed rule.

SUMMARY: The Environmental Protection Agency (EPA) proposes to approve a revision to the Minnesota State Implementation Plan (SIP) which updates Minnesota's air program rules. The Minnesota Pollution Control Agency (MPCA) submitted the request to EPA on November 14, 2018. The revision to Minnesota's air quality rules will reflect changes that have occurred to the state air program rules since August 10, 2011, and updates on actions deferred from previous SIP submittals. EPA is proposing to approve the majority of MPCA's submittal, which will result in consistent requirements of rules at both the state and Federal level.

DATES: Comments must be received on or before March 6, 2020.

ADDRESSES: Submit your comments, identified by Docket ID No. EPA-R05-OAR-2018-0839 at http://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Emily Crispell, Environmental Scientist, Control Strategies Section, Air Programs Branch (AR-18J), Environmental Protection Agency, Region 5, 77 West Jackson Boulevard, Chicago, Illinois 60604, (312) 353-8512, crispell.emily@epa.gov.

SUPPLEMENTARY INFORMATION: Throughout this document whenever “we,” “us,” or “our” is used, we mean EPA. This supplementary information section is arranged as follows:

I. Background

II. Review of State Submittal

III. What action is EPA taking?

IV. Incorporation by Reference

V. Statutory and Executive Order Reviews

I. Background

A. Overview of Revisions Made by Minnesota

On November 14, 2018 MPCA submitted a SIP revision with numerous rule updates. MPCA's submittal includes amendments to rules governing air emission permits, the removal of regulations unnecessary for Minnesota to attain and maintain the National Ambient Air Quality Standards (NAAQS), and the addition of new and previously deferred air program rules.

The following chapters of Minnesota's air program rules have undergone changes: Minnesota Rules Chapter 7000 Procedural Rules; Chapter 7002 Permit Fees; Chapter 7005 Definitions and Abbreviations; Chapter 7007 Permits and Offsets; Chapter 7008 Conditionally Exempt Stationary Sources and Conditionally Insignificant Activities; Chapter 7009 Ambient Air Quality Standards; Chapter 7011 Standards for Stationary Sources; Chapter 7017 Monitoring and Testing Requirements; and Chapter 7019 Emission Inventory Requirements. All rule changes were made under the MPCA's rulemaking authority and underwent appropriate public participation procedures as required by state law. EPA proposes to approve the majority of revisions to the Minnesota SIP and not take action on several revisions.

B. Summary of Relevant Statutes

Section 110 of the Clean Air Act (CAA), 42 U.S.C. 7410, as amended, requires state and local air pollution control agencies to develop and submit for EPA approval, SIPs that provide for the attainment, maintenance, and enforcement of the NAAQS in each air quality control region (or portion thereof) within each state. Section 110(l) of the CAA states that a SIP revision cannot be approved if the revision would interfere with any applicable requirements concerning attainment and reasonable further progress toward attainment of a NAAQS or any other applicable requirement of the CAA.

Section 110(a)(2)(C) of the CAA requires that each SIP include a program to provide for the regulation of construction and modification of stationary sources as necessary to assure that the NAAQS are achieved. Specific elements for an approvable construction permitting plan are found in the implementing regulations at 40 CFR 51 subpart I—Review of New Sources and Modifications. Requirements relevant to minor construction programs are 40 CFR 51.160—51.163. EPA regulations have several specific criteria for state minor new source review (NSR) programs. Generally, state programs must set forth legally enforceable procedures that allow the state to determine if a planned construction activity would result in a violation of the state's SIP or a national standard and prevent any activity that would. In accordance with 40 CFR 51.162, the state plan must identify the responsible agency for making permitting decisions. 40 CFR 51.160 requires that the plan identify the types and sizes of facilities and installations that are subject to review under the plan, provide that sources undertaking an activity submit adequate information regarding the location, design and emission related information to enable the state to make a determination, and discuss the air quality data and dispersion or other air quality modeling used. 40 CFR 51.161 provides specific criteria for public availability of information and opportunity for public comment. Finally, 40 CFR 51.164 requires that the plan identify the administrative procedures that will be followed in making permitting decisions.

The revisions to the Minnesota SIP are intended to recodify, refine and update the Minnesota SIP, at 40 CFR 52.1220. This SIP revision addresses the requirements of section 110(a) of the CAA.

II. Review of State Submittal

A. Administrative Changes

As part of the submittal, several Minnesota rules (Minn. R.) included administrative changes. These changes consist of updated or corrected citations to the referenced rules, updated control equipment codes, removal of duplicative or outdated references, spelling or grammar corrections, and minor language changes, all which have no impact on the substance of the rule. EPA proposes to approve the administrative changes and corrections into the Minnesota SIP.

B. Chapter 7000: Procedural Rules and Minnesota Statute 116.11

Chapter 7000 contains procedural rules regarding Minnesota's air program. Changes to Chapter 7000 include the addition of Minn. R. 7000.5000 which outlines MPCA's declaration of emergency authority. In the submittal, Minnesota requested the addition of both Minn. R. 7000.5000 and Minnesota Statute (Minn. Stat.) 116.11, which pertain to the declaration of emergency and emergency powers. Minn. Stat. 116.11 provides emergency powers to MPCA, which are further discussed in Minn. R. 7000.5000. Specifically, these regulations allow the Agency to “direct the immediate discontinuance or abatement of the pollution without notice and without a hearing or at the request of the agency, the attorney general may bring an action in the name of the state in the appropriate district court for a temporary restraining order to immediately abate or prevent the pollution.” MPCA added Minn. Stat. 116.11 and Minn. R. 7000.5000 and retained Minn. R.7009.1000 through 7009.1110, as these rules provide specific actions and contingency measures during air pollution alerts that are required by CAA section 110(a)(2)(G). EPA proposes to approve the addition of Minn. R. 7000.5000 and Minn. Stat. 116.11 into the Minnesota SIP.

C. Chapter 7002: Permit Fees

Chapter 7002 contains rules related to permit fees. MPCA amended Minn. R. 7002.0005, which describes the general scope of permit fees, and Minn. R. 7002.0015, which contains definitions for terms used throughout Chapter 7002, to remove references to state rules that have been repealed, and to clarify terms related to permit fees. EPA proposes to approve these administrative revisions to Minn. R. 7002.0005 and 7002.0015 into the Minnesota SIP.

D. Chapter 7005: Definitions and Abbreviations

Chapter 7005 contains numerous definitions and abbreviations relevant to rules throughout the Minnesota SIP. In Chapter 7005, MPCA amended several definitions in Minn. R. 7005.0100, to define new terms, clarify definitions, and re-number definitions. EPA finds these revisions approvable because they provide clarity to terms used in various rules throughout the SIP and do not change the requirements of the rules themselves. EPA proposes to approve the revisions to Minn. R. 7005.0100 into the Minnesota SIP

E. Chapter 7007: Permits and Offsets

Chapter 7007 contains rules concerning permits and offsets and has undergone various changes. Note that because Chapter 7007 combines the state's preconstruction and operating permit programs into a single permitting program, MPCA uses the broad term Part 70 permit to reference several types of permits, including some permits that authorize construction. However, this rulemaking is limited solely to approval of revisions to the state's preconstruction permitting program and federally enforceable state operating permit program. This is not a rulemaking under 40 CFR part 70.

1. Air Emission Permits

MPCA revised language in Chapter 7007, to clarify air emission permit requirements. MPCA amended Minn. R. 7007.0050 to clarify the scope of the air emission permit rules and the requirements to which the owners and operators of stationary sources are subject. EPA finds these revisions approvable as they do not change the applicability of the rule and strengthen the requirements. EPA proposes to approve the revisions to Minn. R. 7007.0050 in the Minnesota SIP.

Minn. R. 7007.0100 has been revised to contain definitions and references to other Federal requirements. EPA proposes to approve the revisions to Minn. R. 7007.0100, with the exception of subparts 9b through 9f, 12c, 24a, and 24b (See Section M. Items EPA is Not Taking Acting On) into the Minnesota SIP. EPA finds these added and revised definitions approvable as they clarify terms used throughout the rules concerning air emission permits, and do not change the requirements of the rules.

Minn. R. 7007.0250 has been revised to include administrative changes and the addition of a capped permit option for sources required to obtain a state permit opting to limit their emissions to under the threshold of the part 70 permit. Minn. R. 7007.0300 has been revised to identify sources that are not required to obtain a permit, with administrative changes and to limit the scope of sources not required to obtain a permit. EPA finds these revisions approvable as they add requirements to align the rules with Federal permitting requirements, and do not relax any previously approved SIP provisions. EPA proposes to approve the revisions to Minn. R. 7007.0250, and 7007.0300 into the Minnesota SIP.

Minn. R. 7007.0350 has been revised to contain updated definitions and the removal of references to repealed rules. EPA finds these revisions approvable as they provide clarity and do not change the stringency of the rule. EPA proposes to approve the revisions to Minn. R. 7007.0350 into the Minnesota SIP.

Minn. R. 7007.0400 has been revised to include the addition of a new subpart 5 which establishes the timeframe for the owner or operator to submit an application if a new regulation would make a stationary source subject to part 70 or a state permit. EPA finds these revisions approvable as they strengthen current requirements in the SIP. EPA proposes to approve the revisions to Minn. R. 7007.0400 into the Minnesota SIP.

Minn. R. 7007.0650 has been revised to include changes to the electronic permit application process and removes references to outdated submittal methods. Minor language changes were also made to Minn. R. 7007.0600 and 7007.0700. EPA finds these revisions approvable as they do not change the substance of the rules. EPA proposes to approve the revisions to Minn. R. 7007.0600, 7007.0650, and 7007.0700 into the Minnesota SIP.

Minn. R. 7007.0750 has been revised to include a clarification that part 70 permits are applicable for operation, not construction, and corrects language surrounding MPCA's two-step air permit issuance process to be consistent with Federal rules. EPA proposes to approve the revisions to Minn. R. 7007.0750 Subparts 1 through 7 into the Minnesota SIP.

Minn. R. 7007.0800 has been revised to confirm the required permit content for Part 70 permits, including requirements for emission limitations and standards and permit deviation reporting. MPCA reorganized this section and provided clarifying language to subparts 2, 4, 5, 6, 7, 10, 11, 12, and 14. EPA finds these revisions approvable as they make the rule consistent with the requirements at 40 CFR 70.6(a)(1). EPA proposes to approve the revisions to Minn. R. 7007.0800 into the Minnesota SIP.

Minn. R. 7007.0850 subpart 3 has been revised to include a process to petition for meetings and hearings, and a changing of the word “request” to the phrase “petition for.” EPA finds these revisions approvable as they are minor wording changes that do not change the applicability of the rule. EPA proposes to approve the revisions to Minn. R. 7007.0850 into the Minnesota SIP.

Minn. R. 7007.0950 has been revised to include administrative changes, such as renumbering. EPA proposes to approve the updates to Minn. R. 7007.0950 into the Minnesota SIP.

Minn. R. 7007.1000 subpart 1 is reworded to provide clarity for permit issuance and denial. MPCA did not make any substantive changes to the rule. EPA proposes to approve the revisions to Minn. R. 7007.1000 into the Minnesota SIP.

Minn. R. 7007.1050 has been revised to provide the duration of air emission permits. EPA proposes to approve the revisions to Minn. R. 7007.1050 into the Minnesota SIP.

Minn. R. 7007.1100 has been revised to provide a path forward for sources that, due to changes to operations or in regulations, invalidate the current permit. Minn. R. 7007.1100 now contains four new subparts. Subpart 8 provides the process when undergoing a name change or a change in ownership. Subpart 9 clarifies the requirements to obtain a new permit prior to commencing the modification that will invalidate the current permit. Subpart 10 provides the process for a source that becomes subject to a new regulation, invalidating the current permit. The amendment provides timeframes for the source to contact the commissioner regarding the new regulation and the new permit application, which the source must submit within 180 days of the new regulation's effective date. Further, if a source does not submit a new permit application within the timeframes specified in Minn. R. 7007.1100, the source will not hold a valid permit and will be in violation of Minn. R. 7007.0150, subpart 1. Subpart 11 cites Minn. R. 7007.1150 to 7007.1250, and Minn. R. 7007.1350 to 7007.1500, as rules that do not apply to certain general permits which cover an entire stationary source. EPA finds these revisions approvable as they strengthen MPCA's permitting rules to ensure continued compliance. EPA proposes to approve the revisions to Minn. R. 7007.1100 into the Minnesota SIP.

MPCA made various changes to its registration permit rules. Registration permits allow sources with low levels of actual emissions greater flexibility to make changes, provided they can demonstrate continued eligibility for a registration permit. In addition to requiring eligible sources to comply with all applicable state or Federal regulations, the rule includes specific compliance requirements for each registration permit option.

Minn. R. 7007.1110 has been revised to provide general requirements for registration permits. MPCA added to the categories of new source performance standards for which sources remain eligible for registration permits. These include 40 CFR, part 60, subpart I, hot mix asphalt facilities; subpart GG, stationary gas turbines; subpart IIII, stationary compression ignition internal combustion engines with displacement less than 30 liters per cylinder; and, subpart JJJJ, stationary spark ignition combustion engines. Minn. R. 7007.1110 has been revised to specify the calculation methodology to demonstrate compliance with registration permit option C or D, when there is less than 12 months of emissions data available and provides procedures and allotted timeframes when a stationary source is no longer eligible for a registration permit. Minn. R. 7007.1110 has been revised to address requirements for sources holding a registration permit when a change in ownership or control occurs, or when the source relocates. EPA finds these revisions approvable as they add additional requirements a source must comply with in order to receive a registration permit. EPA proposes to approve the revisions to Minn. R. 7007.1110 into the Minnesota SIP.

MPCA updated registration permit options A and B. Minn. R. 7007.1115 registration permit option A has been revised to include minor clarifications and corrections. Minn. R. 7007.1120 registration permit option B has been revised to include the addition of subpart 4, which describes the calculation method for volatile organic compounds (VOCs). EPA finds these revisions approvable as they clarify the rule language and do not change the substance of the rule. EPA proposes to approve the revisions to Minn. R. 7007.1115 and 7007.1120 into the Minnesota SIP.

Minn. R. 7007.1125 was added to describe the requirements for sources to obtain a new registration permit option C. Option C is intended for sources consisting only of boilers, reciprocating internal combustion engines, and/or emissions from VOC-containing materials, and which meet additional limiting criteria. The rule also excludes from eligibility any source that uses or generates nitrous oxide (NOX) other than from combustion units and insignificant activities, and any source that uses or generates hydrofluorocarbons, perfluorocarbons, or sulfur hexafluoride other than from insignificant activities.

The SIP revision includes methods for calculating emissions from boilers, internal combustion engines and the use of VOC-containing materials. The rule also includes emission factors and calculations to be used to determine eligibility and compliance under option C. Further, it adds instructions for sources that may no longer qualify for a registration permit due to regulatory changes.

Minn. R. 7007.1130 has been revised to add compliance requirements for registration permit option D sources. A source is eligible for a registration permit option D if it has the potential to emit pollutants at levels exceeding a state or Federal threshold but reduces emissions by using pollution control equipment, or some other measure, so that the annual actual emissions for each pollutant are less than half the Federal permit threshold. Sources can demonstrate that actual emissions are below the thresholds with actual emissions calculations based on emission factors, performance tests, continuous emission monitoring and material balance methodology. Additionally, MPCA updated the registration permit option D by adding another eligible category of sources—low-emitting option D sources. MPCA did not change existing emissions thresholds under option D.

EPA proposes to find that the addition of Minn. R. 7007.1125 and revisions to Minn. R. 7007.1130 are consistent with CAA section 110(l) as these changes do not relax any previously approved SIP provision. Limitations are created in Minn. R. 7007.1125 and 7007.1130 that are equivalent to the types of limits that would have been established in an individual permit. Due to the low levels of actual emissions from these sources, EPA believes that the SIP revision will not interfere with attainment and maintenance of the NAAQS. EPA proposes to approve the addition of Minn. R. 7007.1125 and revisions to Minn. R. 7007.1130 into the Minnesota SIP.

MPCA added the following rules which pertain to capped permit option requirements: Minn. R. 7007.1140, 7007.1141, 7007.1142, 7007.1143, 7007.1144, 7007.1145, 7007.1146, 7007.1147, and 7007.1148. Minnesota's capped emission permit option is a rule-based permit in which all requirements are contained in a rule rather than a site-specific permit document. The capped permit restricts a facility's emissions below Federal permitting thresholds and requires the facility to comply with all applicable requirements. The capped permit allows the facility to make changes as long as emissions remain below the facility-wide thresholds and the facility is able to demonstrate continued compliance with all requirements. The capped permit was created to help reduce the permit backlog for small and medium-size sources that do not qualify for Minnesota's registration permits, to create incentives to reduce emissions to qualify for the capped permit, and to reduce administrative costs related to permitting for facilities and Minnesota.

There are two options available to facilities that choose a capped permit. Option 1 is for sources that will include actual emissions from all emissions units and insignificant activities, for which emissions factors or other calculation methods do not exist. Option 2 is for sources that will include actual emissions from all emissions units, insignificant activities and conditionally insignificant activities, as described in chapter 7008. Option 1 has higher allowable facility-wide emission limits than option 2.

Certain types of sources, however, are not eligible for a capped permit, even if their actual emissions fall below the capped permit thresholds. The sources that are not eligible for a capped permit are listed in Minn. R. 7007.1140, sub-paragraph 2. The rule also outlines procedures for sources that no longer meet the eligibility requirements of the capped permit option.

The capped permit option includes a public participation process. MPCA must electronically post notice of receipt of an application for a capped permit. The notice must identify the name and location of the facility to be permitted, the facility's SIC code, information on whether the facility is new or existing, a brief description of the comment period procedures, and contact information for additional information. The public comment period must be at least 30 days. In addition, during the public comment period, a contested case hearing on the application may be requested. The public participation requirements do not apply to applications in which a source is transferring from one capped permit option to another or if there is a change in name, mailing address, ownership, or control of the stationary source.

EPA proposes to find that the addition of Minn. R. 7007.1140-7007.1148 to the SIP is consistent with CAA section 110(l). These revisions do not relax any previously approved SIP provision. Limitations are created throughout Minn. R. 7007.1140-7007.1148 that are equivalent to the types of limits that would have been established in an individual permit. Because of the low levels of actual emissions from these sources, the SIP revisions are not expected to interfere with attainment and maintenance of the NAAQS. EPA proposes to approve the addition of Minn. R. 7007.1140-7007.1148 into the Minnesota SIP.

Minn. R. 7007.1150 has been revised to provide the criteria for a source to qualify for a replacement of existing control equipment. The replacement control equipment must be listed by MPCA as control equipment with sufficient control efficiency. EPA finds these revisions approvable as they do not relax the stringency of the rule. EPA proposes to approve the revisions to Minn. R. 7007.1150 into the Minnesota SIP.

Minn. R. 7007.1200 has been revised to include subpart 4 which describes recordkeeping requirements for calculations required by this Minn. R. 7007.1200. EPA finds these revisions approvable as they add recordkeeping requirements and do not change the applicability of the rule. EPA proposes to approve the revisions to Minn. R. 7007.1200 into the Minnesota SIP.

Minn. R. 7007.1250 subpart 1 has been revised to include only emission units and activities listed as insignificant activities in Minn. R. 7007.1300 subparts 2 and 3, and to require the permittee to initiate an administrative amendment within 30 days if a modification triggers new monitoring, recordkeeping, or reporting requirements. EPA finds these revisions approvable as they align the rule with Federal permitting requirements. EPA proposes to approve the revisions to Minn. R. 7007.1250 into the Minnesota SIP.

EPA proposes to approve the removal of Minn. R. 7007.1251 from the Minnesota SIP as it solely contains a table listing hazardous air pollutants (HAPs). MPCA added the HAPs table to Minn. R. 7007.1300 subpart 5. Minn. R. 7007.1300 subpart 2 has been revised to add an additional requirement for emissions calculations related to insignificant activities to ensure that adequate information is provided to determine the applicability of the rules for various emissions sources. Minn. R. 7007.1300 subpart 3 has been revised to specify and correct insignificant activities. Minn. R. 7007.1300 subpart 4 has been revised to clarify language for insignificant activities as they relate to the initial issuance of part 70 permits. Subpart 4 does not apply to permit amendments or reissuance. EPA finds these revisions approvable as they add requirements and do not relax the stringency of the rule. EPA proposes to approve the revisions to Minn. R. 7007.1300 into the Minnesota SIP.

Minn. R. 7007.1400 subpart 1 (D) has been revised to clarify situations where certain monitoring, recordkeeping, or reporting requirements are no longer applicable. Minn. R. 7007.1400 subpart 1 (H) has been revised to allow an administrative amendment to extend a testing deadline in a permit if the extension is needed to allow the permittee to test at worst case conditions. Minn. R. 7007.1400 subpart 1 has been revised to add include subparts I, J, and H which amend permit administrative requirements. EPA finds these revisions approvable as they make the rule consistent with 40 CFR 70.7(d) and 40 CFR part 63 and part C requirements. EPA proposes to approve the revisions to Minn. R. 7007.1400 into the Minnesota SIP.

Both Minn. R. 7007.1450 and 7007.1500 have been revised to clarify the differences between requirements of minor and major permit amendments. Minn. R. 7007.1500 has been revised to clarify what changes may be made by major permit amendment to make the rule compliant with Federal permitting requirements. EPA proposes to approve the revisions to Minn. R. 7007.1450 and 7007.1500 into the Minnesota SIP.

Minn. R. 7007.1600 has been revised to require that a permittee submit a permit application when additional Federal requirements become applicable to a stationary source with a remaining permit term of three or more years or with a non expiring permit. EPA finds these revisions approvable as they make the rule consistent with Federal part 70 rule requirements. EPA proposes to approve the revisions to Minn. R. 7007.1600 into the Minnesota SIP.

2. Miscellaneous

Several miscellaneous changes were made to Minn. R. 7007.4010-7007.5000. Minn. R. 7007.4010 has been revised to remove obsolete definitions of terms no longer used in Minn. R. 7007.4000 to 7007.4030. The conditions for permit at Minn. R. 7007.4020 was updated to add a reference to appendix S, part (II), section (A). Minn. R. 7007.5000 has been revised to incorporate by reference the Federal guidelines for Best Available Retrofit Technology (BART) and describes the requirements for BART determination and implementation. EPA proposes to approve the revisions to Minn. R. 7007.4010-7007.4020 and the addition of Minn. R. 7007.5000 into the Minnesota SIP.

F. Chapter 7008: Conditionally Exempt Stationary Sources and Conditionally Insignificant Activities

MPCA promulgated Chapter 7008 rules to streamline and simplify Minnesota's air quality permitting program. The addition of Chapter 7008 establishes conditions under which sources are exempt from the requirement to apply for and obtain an air emission permit. Chapter 7008 also establishes the conditions under which certain activities will qualify as insignificant activities. The sources that may qualify as conditionally exempt include gasoline service stations and concrete manufacturing plants that have throughput and production limited to below thresholds outlined in the rule. In addition, material usage in coating and cleaning operations could be exempted from permitting requirements if usage remains below thresholds for VOC and particulate matter (PM). The rule cannot apply to any material activity with lead as a component. PM and particulate matter 10 micrometers and smaller (PM10) emitting operations that vent inside a building may also qualify as conditionally insignificant activities. Activities such as buffing, polishing, carving, cutting, drilling, machining, routing, sanding, sawing, surface grinding or turning equipment must be filtered through an air cleaning system and vented inside the building at all times in order to be considered insignificant activities. Chapter 7008 requires sources who claim their operations are conditionally exempt or conditionally insignificant to maintain records that demonstrate eligibility with the rule.

The minor NSR provisions at 40 CFR 51.160 require state programs to determine if activities would violate an applicable SIP or national standard and to prevent construction of an activity that would violate an applicable SIP provision or national standard. Minnesota Rule 7008 exempts certain eligible stationary sources from air permitting requirements. When determining adequacy of state rules, EPA is concerned with the possibility that an exemption might allow an activity that should be subject to major source permitting requirements to escape appropriate review and permitting, that sources are required to maintain information adequate for the state to ensure that exemptions have been applied appropriately, and that the exemptions would not interfere with any applicable requirement concerning attainment and reasonable further progress, or any other applicable requirement of the CAA.

Minnesota Chapter 7008 provides limitations on the use of the specific exemptions in Minn. R. 7008.0050-7008.4100 and requires sources using the exemptions to maintain certain records to demonstrate that the exemptions have been applied appropriately. Specific conditionally exempt sources and conditionally insignificant sources may be required to implement additional monitoring and recordkeeping as required to ensure that the equipment is operating as required under the exemption.

Section 110(l) of the CAA states that a SIP revision cannot be approved if the revision would interfere with any applicable requirement concerning attainment and reasonable further progress toward attainment of a NAAQS or any other applicable requirement of the CAA. These conditionally exempt sources or conditionally insignificant activities are expected to yield very low levels of actual emissions of regulated pollutants and are not expected to interfere with attainment and maintenance of the NAAQS. EPA proposes to approve the addition of Minn. R. 7008.0050, 7008.0100, 7008.0200, 7008.0300, 7008.2000, 7008.2100, 7008.2200, 7008.2250, 7008.4000, 7008.4100, and 7008.4110 into the Minnesota SIP.

G. Chapter 7009: Ambient Air Quality Standards

Chapter 7009 contains rules concerning ambient air quality standards, air pollution episodes, and adoption of Federal regulations. Changes to Chapter 7009 include amendments to Minn. R. 7009.0010, 7009.0020, and 7009.1060, the addition of Minn. R. 7009.0090, and the removal of Minn. R. 7009.0060-7009.0080. EPA proposes to approve the revisions to Chapter 7009 into the Minnesota SIP.

1. Ambient Air Quality Standards

MPCA amended two rules, Minn. R. 7009.0010 and 7009.0020, which pertain to ambient air quality standards. Minn. R. 7009.0010 has been revised to define terms related to ambient air quality standards used throughout Chapter 7009. Minn. R. 7009.0010 has been revised to add three definitions for the terms “averaging time”, “form of the standard”, and “total suspended particulate”. EPA finds the addition of these definitions approvable as they are in line with Federal definitions of these terms and do not lessen the stringency of the rules to which they apply. Minn. R. 7009.0020 has been revised to apply specifically to the Minnesota Ambient Air Quality Standards (MAAQS) and to align the rule with the Federal definition of ambient air. EPA proposes to approve the revisions to Minn. R. 7009.0010 and 7009.0020 into the Minnesota SIP.

MPCA removed several rules under Chapter 7009 as they were either not NAAQS related or no longer relevant. Minn. R. 7009.0060 solely described a measurement methodology for hydrogen sulfide, which is not considered to be a criteria pollutant. Therefore, the removal of Minn. R. 7009.0060 from Minnesota's SIP will not impact Minnesota's ability to attain or maintain the NAAQS. Minn. R. 7009.0070 referred to the time of compliance for attaining the ozone and sulfur dioxide (SO2) standards by 1984. MPCA removed this rule because it is outdated and unnecessary. Compliance dates for NAAQS pollutants are set during the NAAQS revision process. Minnesota is also currently attaining and maintaining the NAAQS for ozone and SO2. Minnesota requested that Minn. R. 7009.0080, Minnesota Ambient Air Quality Standards, be removed and replaced with Minn. R. 7009.0090. Minn. R. 7009.0080 contains a table of the MAAQS which are tracked at the state level. Minn. R. 7009.0090 incorporates by reference the NAAQS for SO2, PM10, PM2.5, carbon monoxide (CO), ozone, nitrogen dioxide, and lead as amended. Adding Minn. R. 7009.0090 will improve enforceability of the NAAQS and ensure that data for those pollutants is collected. EPA proposes to approve the removal of Minn. R. 7009.0060-7009.0080 and the addition of Minn. R. 7009.0090.

2. Air Pollution Episodes

Minn. R. 7009.1060 has been revised to include the episode levels for PM10 24-hour average, to add significant harm levels for 1-hour and 4-hour CO averaging times, and to remove the episode levels for “SO2 x Part”, all in the table containing alert levels related to declaration of emergency. These revisions of Minn. R. 7009.1060 meet the requirements of CAA section 110(l) because the revised episode levels are stricter than the original episode levels. The removal of the “SO2 x Part” episode levels is approvable because Minnesota is retaining separate episode levels for SO2 and PM10. EPA proposes to approve the revisions to Minn. R. 7009.1060 into Minnesota's SIP.

H. Chapter 7011: Standards for Stationary Sources

Chapter 7011 contains rules concerning standards for stationary sources. MPCA updated various rules throughout chapter 7011. Further, MPCA requested the removal of Minn. R. 7011.0725 and 7011.1415.

In the following rules, MPCA updated control equipment codes due to irrelevance or unnecessary state duplication of EPA control equipment codes: Minn. R. 7011.0070 and 7011.0080. EPA proposes to approve the revisions to Minn. R. 7011.0070 and 7011.0080 into the Minnesota SIP.

The following rules underwent minor language changes such as changing the word “shall” to “must” or “which” to “that”: Minn. R. 7011.0065, 7011.0080, 7011.0510, 7011.0515, 7011.0530, 7011.0535, 7011.0610, 7011.0615, 7011.0620, 7011.0710, 7011.1105, 7011.1115, 7011.1135, 7011.1305, 7011.1310, 7011.1320, 7011.1405, 7011.1425, 7017.1080, 7017.1110, and 7017.1170. EPA finds these revisions approvable as they are minor language changes that do not affect the requirements of the rule. EPA proposes to approve the revised aforementioned rules into the Minnesota SIP.

Minn. R. 7011.0070 and 7017.2060 have been revised for spelling or grammar corrections, such as changing the spelling of “condensible” to “condensable.” EPA finds these revisions approvable as they are minor language changes that do not affect the requirements of the rule. EPA proposes to approve the revisions to Minn. R. 7011.0070 and 7017.2060 into the Minnesota SIP.

Minn. R. 7011.0065 has been revised to define the applicability of the rules concerning control equipment for stationary sources, and to clarify which state rules apply if a change regarding facility control equipment triggers a notification requirement under part Minn. R. 7007.1150, item C, subitem (3). The revision to Minn. R. 7011.0065 will assist permittees in determining compliance with notifications sent to MPCA and does not affect the applicability of the rule. EPA proposes to approve the revisions to Minn. R. 7011.0065 into the Minnesota SIP.

Minn. R. 7011.0070 has been revised to specify that condensable PM refers to both organic and inorganic compounds. EPA finds this revision approvable as it is merely a clarification and does not affect the applicability of the rule. EPA proposes to approve the revisions to Minn. R. 7011.0070 into the Minnesota SIP.

Several rules underwent minor language changes such as clarifying the form of PM being measured. In Minn. R. 7011.0510, 7011.0515, 7011.0530, 7011. 0610, 7011.0615, 7011.0710, 7011.0715, 7011.0720, 7011.0905, 7011.1105, 7011.1115, 7011.1130, 7011.1305, 7011.1310, 7011.1320, 7017.2060, 7011.1425, 7011.1405, 7011.1410, and 7011.1425 the terms “filterable” and/or “condensable” were added to clarify the form of PM referenced in these rules. Filterable PM is the fraction of particles that are solid and captured on a filter in the stack sampling procedure, which for indirect heating equipment sources is the PM measured with reference Method 5 and, thus, is the fraction of particles regulated by this standard. EPA proposes to approve the revised aforementioned rules into the Minnesota SIP.

Minn. R. 7011.0530, 7011.0615, 7011.0720, 7011.1320 and 7011.1425 have been revised to add the term “to demonstrate compliance” to clarify the distinction in the forms of PM being measured and the subset of data to be used to determine compliance. EPA proposes to approve the revisions to Minn. R. 7011.0530, 7011.0615, 7011.0720, 7011.1320 and 7011.1425 into the Minnesota SIP.

Minn. R. 7011.0535 has been revised to delete duplicative references to Federal reference methods as it is unnecessary to state in the state rule test procedures included in the reference methods. EPA proposes to approve the revisions to Minn. R. 7011.0535 into the Minnesota SIP.

Minn. R. 7011.0551 and 7011.0625 have been revised to amend references to regulatory provisions. EPA finds these revisions approvable as they do not change the meaning of the rules or lessen their stringency. EPA proposes to approve the revisions to Minn. R. 7011.0551 and 7011.0625 into the Minnesota SIP.

Older versions of Minn. R. 7011.0725 set forth an outdated protocol developed by MPCA in 1969 for recovering organic condensable material samples and determining particulate emissions. Minn. R. 7011.0725 has been revised to remove the outdated protocol and replace references to the rule with specific instruction to use EPA Method 202 (40 CFR part 51, appendix M) for performance tests. EPA's Method 202—Dry Impinger Method for Determining Condensable Particulate Emissions from Stationary Sources provides a test method for measuring condensable particulate matter. Replacing references of 7011.0725 with EPA Method 202 will improve consistency and update precision for most emission sources. Several rules were amended to incorporate Method 202 for measurement of the organic portion of condensable PM, which replaced the procedures in Minn. R. 7011.0725. The following rules have been revised to incorporate EPA Method 202 for measurement of the organic portion of condensable PM: Minn. R. 7011.0615, 7011.0620, 7011.0720, and 7017.2060. These changes align the rule with Federal methods. EPA proposes to approve the removal of Minn. R. 7011.0725 and revisions to Minn. R. 7011.0615, 7011.0620, 7011.0720, and 7017.2060 into the Minnesota SIP.

Minn. R. 7011.0620 has been revised to clarify that owners and operators may request approval of smaller sampling times or volumes when necessitated by process variables or site-specific limitations. EPA proposes to approve the revisions to Minn. R. 7011.0620 into the Minnesota SIP.

Minn. R. 7011.1135 subpart 2 has been revised to restrict the conditions under which a facility may modify a PM test, by requiring a description of site-specific conditions necessitating the test modification. These changes align the rule with Federal methods. EPA proposes to approve the revisions to Minn. R. 7011.1135 into the Minnesota SIP.

Minn. R. 7011.1201 has been revised to update definitions for waste combustors. Updates include rule citation corrections, renumbering subparts, removal of obsolete definitions, addition of definitions for terms used throughout sections of the SIP such as resinated wood and retrofit, and other clarifying language. EPA finds these revisions approvable as they do not change the meaning or lessen the stringency of the rule. EPA proposes to approve the revisions to Minn. R. 7011.1201 into the Minnesota SIP.

Minn. R. 7011.1205 has been revised to update the rule citations to also include 7011.1290-7011.1294, since the documents incorporated by reference in 7011.1205 are also relevant to these rules. EPA proposes to approve the revisions to Minn. R. 7011.1205 into the Minnesota SIP.

Minn. R. 7011.1405 and 7011.1410 have been revised to clarify which contain the standards of performance for existing and new affected facilities at petroleum refineries. In subpart 2 of Minn. R. 7011.1405 and 7011.1410, MPCA clarified that flares that are subject to the conditions of 40 CFR part 60, subpart Ja, are not subject to the limits of this subpart. In subpart 3 of Minn. R. 7011.1405 and 7011.1410, a statement was added to clarify that the standards of performance for indirect heating equipment in Minn. R. 7011.0500 to 7011.0530, do not apply to indirect heating equipment at petroleum refineries, and that the standards of performance for indirect heating equipment at petroleum refineries is listed in Minn. R. 7011.1405 and 7011.1410 subpart 3. EPA proposes to approve the revisions to Minn. R. 7011.1405 and 7011.1410 into the Minnesota SIP.

MPCA updated the definitions for liquid petroleum and volatile organic liquid storage vessels in Minn. R. 7011.1500 to include the definition of “commenced.” MPCA updated the definitions for sulfuric acid plants in Minn. R. 7011.1600 to include a definition for “existing sulfuric acid production unit.” EPA proposes to approve the revisions to Minn. R. 7011.1500 and 7011.1600 into the Minnesota SIP.

I. Chapter 7017: Monitoring and Testing Requirements

Chapter 7017 contains rules regarding monitoring and testing requirements. Several updates were made to the rules in Chapter 7017, and both Minn. R. 7017.1210 and 7017.2018 were removed and replaced by Minn. R. 7017.1215 and 7017.2017 respectively. EPA proposes to approve these revisions into the Minnesota SIP.

1. Continuous Monitoring Systems

Minn. R. 7017.1002 has been revised to include definitions relevant to continuous monitoring systems, specifically, for the terms “grace period,” “quality assurance operating quarter,” “stack operating hour,” and “unit operating hour.” EPA finds these revisions approvable as they clarify terms used in the SIP and do not change the applicability or stringency of the rules. EPA proposes to approve the revisions to Minn. R. 7017.1002 into the Minnesota SIP.

Both Minn. R. 7007.1350 and 7017.1080 have been revised to clarify that certification test reports must be submitted in the format specified by the commissioner. Minn. R. 7017.1080 has been revised to remove subpart 3, the microfiche submittal deadline, as it is outdated and has since been repealed by the state. MPCA revised subparts 1-4 of Minn. R. 7017.1120. Subpart 1 has been revised to delete the address previously listed and require submittal “in a physical or electronic format as specified by the commissioner and to the address identified on the required form or as provided by the agency.” Subpart 2, which had specified alternate formats for making submissions, e.g., facsimile or CD ROM, has been repealed by the state because MPCA now includes electronic format as a standard submission method in other subparts. Subpart 3 has been revised to indicate that submittal dates may be specified not only in a compliance document but also in a regulation. Subpart 4 has been revised to more generally require certification statements to be submitted “in a format specified by the commissioner,” and to delete outdated submission procedures. Minn. R. 7017.2035 has been revised to remove an outdated submittal option that allowed for performance test reports to be submitted as a microfiche. EPA proposes to approve the revisions to Minn. R. 7007.1350, 7017.1080, 7017.1120, and 7017.2035 into the Minnesota SIP.

Minn. R. 7017.1110 has been revised to add two requirements regarding the contents of excess emissions reports. These new requirements include a summary of the cylinder gas audit and relative accuracy test audit (RATA) required by Minn. R. 7017.1180 and 7017.1220 if the audits were completed in the previous quarter and if applicable, notifications of exceptions of applicability from audit frequencies as allowed in Minn. R. 7017.1170, subparts 4a and 5a, and Minn. R. 7017.1215. EPA finds these revisions approvable as they do not change the stringency of the rule. EPA proposes to approve the revisions to Minn. R. 7017.1110 into the Minnesota SIP.

Minn. R. 7017.1170 describes quality assurance and control requirements for continuous emissions monitoring systems (CEMS). Minn. R. 7017.1170 has been revised to remove subpart 1 and include 1a, which states that the quality assurance and control requirements apply to each CEMS unless otherwise specified by another applicable standard. Minn. R. 7017.1170 subpart 2 has been revised by adding the requirement that the quality assurance plan contain the information required by 40 CFR part 75, appendix B. Minn. R. 7017.1170 subpart 3 has been revised by adding a requirement for facilities to conduct daily calibration drift assessments and adjustments in accordance with the procedures in 40 CFR part 75, appendix B, section 2.1. Minn. R. 7017.1170 subpart 4 has been revised to remove the semiannual cylinder gas audit requirements and replaced them with the cylinder gas audit provisions of subpart 4a. Subpart 4 incorrectly cited procedures in 40 CFR part 60 appendix G, section 5.1.2 rather than 4 CFR part 60 appendix F, section 5.1.2 and contained an obsolete compliance date. Subpart 4a requires cylinder gas audits according to 40 CFR part 60, appendix F, section 5.12, or 40 CFR part 75, appendix A, section 6.2, for sources not subject to 40 CFR part 60. It also provides a 168-hour grace period if the unit being monitored by the CEMS is not in operation when the cylinder gas audit is due. Minn. R. 7017.1170 has been revised to remove subpart 5 and add subpart 5a which contains the RATA requirements. Subpart 5a requires RATAs according to 40 CFR part 60, appendix B, or 40 CFR part 75, appendix A, sections 6.5 to 6.5.2.2, and appendix B, sections 2.3.1.3 and 2.3.1.4, as amended. Minn. R. 7017.1170 subpart 6 has been revised to add a citation to 40 CFR part 75, appendix A, section 3.3, as amended. Minn. R. 7017.1170 has been revised to add subpart 8 which states that data collected during out of control periods is not valid and may not be used for compliance demonstrations. EPA finds the addition of subpart 8 approvable as it meets the requirements of 40 CFR part 60, appendix F, sections 4.3.2 and 5.2.2. EPA proposes to approve the revisions to Minn. R. 7017.1170.

Minn. R. 7017.1210 includes outdated Continuous Opacity Monitoring Systems (COMS) procedures used to demonstrate compliance with New Source Performance Standards. Minn. R. 7017.1210 has been revised to remove monitoring and testing requirements and replaced it with Minn. R. 7017.1215, which incorporates by reference “Procedure 3—Quality Assurance Requirements for Continuous Opacity Monitoring Systems at Stationary Sources, Code of Federal Regulations, title 40, part 60, Appendix F”, as amended. Replacing Minn. R. 7017.1210 with Minn. R. 7017.1215 will ensure that MPCA's COMS procedures are up to date and in compliance with EPA regulations. EPA proposes to approve the removal of Minn. R. 7017.1210 and the addition of Minn. R. 7017.1215 into the Minnesota SIP.

2. Performance Tests

Minn. R. 7017.2001 has been revised to define the applicability for performance tests, by removing subpart 2 because it referenced an outdated transition period deadline for performance test procedures. The deadline passed in 1993 and the transition has been implemented so removal of this subpart does not affect Minnesota's air quality management program. EPA proposes to approve the revisions to Minn. R. 7017.2001 into the Minnesota SIP.

Minn. R. 7017.2018 has been removed and replaced with Minn. R. 7017.2017 as it provides the current procedure for submittals required under Minn. R. 7017.2015 to 7017.2060. Minn. R. 7017.2015 subpart 4 has been revised to reflect the repeal of part Minn. R. 7017.2018 and its replacement by part Minn. R. 7017.2017. EPA proposes to approve the removal of Minn. R. 7017.2018 and the addition of Minn. R. 7017.2017 into the Minnesota SIP.

Minn. R. 7017.2025 has been revised to clarify rule language and provide rule citations concerning operational requirements and limitations. In subpart 3a part C, MPCA revised the language to state that for new operating limits and pollution control equipment limits not specified in item A or B, the averaging time and any extension of the range of values must be defined in the test plan approved under Minn. R. 7017.2030, subpart 2. EPA finds this revision approvable as it does not change the requirements of the rule and clarifies the test plan requirements by citing Minn. R. 7017.2030, subpart 2. EPA proposes to approve the revisions to Minn. R. 7017.2025 into the Minnesota SIP.

Minn. R. 7017.2050 subpart 1 has been revised to clarify that if test methods incorporated by reference contain exemptions and exclusions that do not meet the requirements of Minn. R. 7017.2001 to 7017.2060, the exemptions and exclusions do not apply. EPA proposes to approve the revisions to Minn. R. 7017.2050 into the Minnesota SIP.

MPCA made several updates to performance test procedures in Minn. R. 7017.2060. MPCA removed language referring to emissions test procedures for Federal methods, such as Method 5 Method 202 for determining PM emissions, which has been revised to instruct owners and operators to use the Federal methods as amended to avoid future conflict with state rules if Federal methods are revised. Minn. R. 7017.2060 subpart 3.B. has been revised to provide clarity on how a facility determines PM emissions, which is based on the sum of filterable and organic condensable PM unless otherwise required in chapter 7011. Minn. R. 7017.2060 subpart 3.C. has been revised to clarify that a facility's compliance status is determined by the sum of filterable and organic condensable PM. Minn. R. 7017.2060 has been revised to add Subpart 3.D. which allows an owner or operator to apply to the commissioner to exclude condensable PM from a performance test for PM provided that previous performance test results show that the emissions unit is not a source of organic condensable PM emissions or an exception in Method 202, section 1.4(h), as amended, applies. Further, Minn. R. 7017.2060 subpart 3.D. removes the ability of a facility owner or operator to use a mass balance calculation as a rationale for waiving measurement of condensable PM. Minn. R. 7017.2060 subpart 4 has been revised to clarify testing requirements for PM10 by identifing the test methods used, and how to demonstrate compliance with applicable PM10 emission limits. Minn. R. 7017.2060 subpart 4 has been revised to allow an owner or operator to apply to the commissioner to exclude organic and inorganic condensable PM from a performance test for PM10 provided that previous performance test results show that the emissions unit is not a source of organic or inorganic condensable PM emissions or that an exception in Method 202, section 1.4(h), as amended, applies. Minn. R. 7017.2060 has been revised to add subpart 4a to establish testing requirements for PM2.5, to describe how to demonstrate compliance with PM2.5 emission limits. Minn. R. 7017.2060 subpart 4q will reference Federal rules for Methods 201A and 202, establish how to report PM2.5 emissions, and define and establish an emission facility's compliance status. Subpart 4a includes a provision to allow an owner or operator to apply to the commissioner to exclude organic and inorganic condensable PM from a performance test for PM2.5 provided that previous performance test results show that the emissions unit is not a source of organic or inorganic condensable PM emissions or that an exception in Method 202, section 1.4(h), as amended, applies. EPA proposes to approve the revisions to Minn. R. 7017.2060 into the Minnesota SIP.

J. Chapter 7019: Emission Inventory Requirements

Minn. R. 7019.3020 has been revised to add different types of registration permits, including requirements for calendar year actual emission reporting for option A registration permits. EPA finds these revisions approvable as they add requirements and do not reduce any previously SIP approved requirements. EPA proposes to approve the revisions to Minn. R. 7019.3020.

Minn. R. 7019.3030 has been revised to add a mercury material balance reference. Minn. R. 7019.3050 has been revised to add the performance test requirements for mercury emission sources in Minn. R. 7019.3050. EPA proposes to approve the revisions to Minn. R. 7019.3030 and Minn. R. 7019.3050 into the Minnesota SIP.

K. Chapter 7023: Mobile and Indirect Sources

No changes were made to Chapter 7023. EPA proposes to reapprove Chapter 7023 into the Minnesota SIP.

L. EPA Corrections

On August 10, 2011 (76 FR 49303), EPA approved the removal of all of Chapter 7001 from Minnesota's SIP, however, 40 CFR 52.1220(c) was not revised accordingly. EPA proposes to approve and take an administrative action to correct the table at 40 CFR 52.1220(c) by removing all entries for Chapter 7001.

In addition to the correction mentioned above, the submittal also included corrections to administrative errors contained in the Minnesota PM10 designation table at 40 CFR 81.324 to help clarify which areas in the state are listed as unclassifiable/attainment. EPA proposes to approve and take an administrative action to correct the table at 40 CFR 81.324.

M. Items EPA Is Not Taking Action On

EPA proposes to take no action on the definitions at Minn. R. 7007.0100, subpart 9b through 9f, 12c and 24b. These definitions are related to the environmental management system (EMS). Minnesota has not submitted the EMS provisions as part of this SIP submittal. Since the definitions do not reference provisions in the SIP and MPCA plans to remove the EMS conditions from its rules at a later date, EPA proposes to take no action on Minn. R. 7007.0100, subpart 9b through 9f, 12c and 24b.

The following rules reference an outdated greenhouse threshold for carbon dioxide equivalent which is less stringent than the current Federal requirement: Minn. R. 7007.0100 subpart 24a, 7007.0150, 7007.0200, and 7007.0500. EPA proposes to take no action on the revisions to Minn. R. 7007.0100 subpart 24a, 7007.0150, 7007.0200, 7007.0500.

EPA proposes to take no action on the exemptions MPCA requested to remove at Minn. R. 7011.1415 since they refer to exemptions for excess emissions resulting from gas flaring at petroleum refineries during periods of startup, shutdown, and malfunction. EPA is currently deliberating on how to move forward on startup, shut down, and malfunction related issues and will take no action on Minn. R. 7011.1415 in this SIP action. Subsequently, EPA proposes to take no action on the revised definitions at Minn. R. 7011.1400 as the revised definitions relate to the requested removal of Minn. R. 7011.1415.

III. What action is EPA taking?

EPA is proposing to approve MPCA's November 14, 2018, submittal as a revision to its existing SIP with exception to the definitions at Minn. R. 7007.0100, paragraph 9b through 9f, 12c and 24b, Minn. R. 7011.1400, and Minn. R. 7011.1415, where EPA is taking no action.

IV. Incorporation by Reference

In this rule, EPA is proposing to include in a final EPA rule regulatory text that includes incorporation by reference. In accordance with requirements of 1 CFR 51.5, EPA is proposing to incorporate by reference revisions to Minnesota Rules Chapter 7000 Procedural Rules; Chapter 7002 Permit Fees; Chapter 7005 Definitions and Abbreviations; Chapter 7007 Permits and Offsets; Chapter 7008 Conditionally Exempt Stationary Sources and Conditionally Insignificant Activities; Chapter 7009 Ambient Air Quality Standards; Chapter 7011 Standards for Stationary Sources; Chapter 7017 Monitoring and Testing Requirements; and Chapter 7019 Emission Inventory Requirements, as discussed in section II. “Review of State Submittal” above. EPA has made, and will continue to make, these documents generally available through www.regulations.gov and at the EPA Region 5 Office (please contact the person identified in the For Further Information Contact section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: January 17, 2020.
Cheryl L. Newton,
Acting Regional Administrator, Region 5.

[FR Doc. 2020-02143 Filed 2-4-20; 8:45 am]

BILLING CODE 6560-50-P